DEPARTMENT OF COMMERCE

International Trade Administration

Renewed Request for Applicants for Appointment to the United States-Brazil CEO Forum

AGENCY: International Trade Administration, Department of Commerce.

ACTION: Notice.

SUMMARY: On October 12, 2018, the Department of Commerce (“the Department”) published a Federal Register notice, Request for Applicants for Appointment to the United States-Brazil CEO Forum, requesting applications for appointment to the United States-Brazil CEO Forum and providing October 31, 2018, as the deadline to submit applications to the Department for immediate consideration. This notice re-opens the request for applications and postpones the start of the three-year term of the incoming members of the U.S. Section from December 1, 2018, to February 25, 2019. The term will now expire on February 24, 2022. Nominations received in response to this notice will also be considered for on-going appointments to fill any future vacancies that may arise before February 24, 2022.

DATES: Applications for immediate consideration should be received no later than the close of business on January 22, 2019. After that date, applications will continue to be accepted until February 24, 2022, to fill any new vacancies that may arise.

ADDRESSES: Please send requests for consideration to Raquel Silva, Office of Latin America and the Caribbean, U.S. Department of Commerce, either by email at Raquel.Silva@trade.gov or by mail to U.S. Department of Commerce, 1401 Constitution Avenue NW, Room 30014, Washington, DC 20230.

FOR FURTHER INFORMATION CONTACT: Raquel Silva, Office of Latin America and the Caribbean, U.S. Department of Commerce, telephone: (202) 482-4157.

SUPPLEMENTARY INFORMATION: For more information on the United States-Brazil CEO Forum, please see 83 FR 51663 (October 12, 2018), Request for Applicants for Appointment to the United States-Brazil CEO Forum. The terms of participation set out in 83 FR 51663 also apply to the current selection process. The Terms of Reference of the CEO Forum may be viewed at http://www.trade.gov/ceo-forum/.

As delineated in 83 FR 51663 (October 12, 2018), to be considered for membership, please submit the following information as instructed in the ADDRESSES and DATES captions above: Name(s) and title(s) of the individual(s) requesting consideration; name and address of company's headquarters; location of incorporation; information that the company is U.S.-owned or U.S.-controlled; size of the company; size of company's export trade, investment, and nature of operations or interest in Brazil; an affirmative statement that the applicant meets all Forum eligibility criteria and is neither registered nor required to register as a foreign agent under the Foreign Agents Registration Act of 1938, as amended; and a brief statement of why the candidate should be considered, including information about the candidate's ability to initiate and be responsible for activities in which the Forum will be active, and commitment to attending the majority of Forum meetings. Applications will be considered as they are received. All candidates will be notified of whether they have been selected.

Dated: December 14, 2018.
Alexander Peacher,
Director for the Office of Latin America & the Caribbean.

[FR Doc. 2018-27492 Filed 12-20-18; 8:45 am]

BILLING CODE 3510-HE-P